NUCLEAR REGULATORY COMMISSION

[Docket No. 50-293]

Entergy Nuclear Generation Company, Entergy Nuclear Operations, Inc.; Notice of Withdrawal of Application for Amendment to Facility Operating License

The U.S. Nuclear Regulatory Commission (NRC or the Commission) has granted the request of Entergy Nuclear Operations, Inc. (the licensee) to withdraw its August 19, 2002, application for proposed amendment to Facility Operating License No. DPR-35 for the Pilgrim Nuclear Power Station, located in Plymouth County, Massachusetts. The licensee's application was supplemented by letters dated February 14, March 27, and April 14, 2003.

The proposed amendment would have modified the facility Technical Specifications (TSs) pertaining to post-accident monitoring instrumentation requirements to make the TSs more consistent with the Standard Technical Specifications for boiling water reactors.

The Commission had previously issued a Notice of Consideration of Issuance of Amendment published in the Federal Register on December 24, 2002 (67 FR 78519). However, by letter dated November 6, 2003, the licensee withdrew the amendment request.

For further details with respect to this action, see the application for amendment dated August 19, 2002, as supplemented by letters dated February 14, March 27, and April 14, 2003, and the licensee's letter dated November 6, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 29th day of December, 2003.
For the Nuclear Regulatory Commission.
Travis Tate,
Project Manager, Section 2, Project Directorate I, Division of Licensing Project Management, Office of Nuclear Reactor Regulation.

[FR Doc. 04-186 Filed 1-5-04; 8:45 am]

BILLING CODE 7590-01-P